DEPARTMENT OF THE INTERIOR

National Park Service

Minor Boundary Revision at Indiana Dunes National Lakeshore

AGENCY: National Park Service, Interior.

ACTION: Notification of boundary revision.

SUMMARY: Notice is hereby given that, pursuant to 16 U.S.C. 460l-9(c)(1), the boundary of Indiana Dunes National Lakeshore in the State of Indiana is modified to include an additional nineteen tracts totaling 48.75 acres of land. These tracts are adjacent to the boundary of the national lakeshore and are depicted on a map entitled “Indiana Dunes National Lakeshore, Proposed Boundary Adjustment,” dated October 2009, and numbered 314/80,013. Eight of the tracts are non-Federal, to be acquired by donation. The remaining eleven tracts are Federally owned.

FOR FURTHER INFORMATION CONTACT: National Park Service, Chief, Midwest Region Land Resources Program Center, 601 Riverfront Drive, Omaha, Nebraska 68102, (402) 661-1788. The map depicting the revision is on file and available for inspection at this address and at Indiana Dunes National Lakeshore, 1100 North Mineral Springs Road, Porter, Indiana 46304.

DATES: The effective date of this boundary revision is February 28, 2011.

SUPPLEMENTARY INFORMATION: 16 U.S.C. 460l-9(c)(1) provides that, after notifying the House Committee on Natural Resources and the Senate Committee on Energy and Natural Resources, the Secretary of the Interior is authorized to make this boundary revision upon publication of notice in the Federal Register. The Committees have been notified of this boundary revision. Inclusion of these lands within the national lakeshore will enable the National Park Service to better manage and protect natural and scenic resources contained thereon.

Dated: December 10, 2010.
Ernest Quintana,
Regional Director, Midwest Region.

[FR Doc. 2011-4352 Filed 2-25-11; 8:45 am]

BILLING CODE 4310-FH-P